DEPARTMENT OF THE INTERIOR

Fish and Wildlife Service

Construction of an Elementary School in Lake County, FL

AGENCY: Fish and Wildlife Service, Interior.

ACTION: Notice: receipt of application for an incidental take permit; request for comments.

SUMMARY: We, the Fish and Wildlife Service (Service), announce the availability of an Incidental Take Permit (ITP) Application and Habitat Conservation Plan (HCP). The Lake County School Board (applicant) requests an ITP for a duration of 20 years under section 10(a)(1)(B) of the Endangered Species Act of 1973, as amended (Act). The applicant anticipates taking approximately 0.48 acre (ac) of sand skink (Neoseps reynoldsi)—occupied habitat incidental to constructing a two-story elementary school and accessory structures, play areas, and infrastructure in Lake County, Florida (Project). The applicant's HCP describes the mitigation and minimization measures the applicant proposes to address the effects of the Project to the sand skink.

DATES: We must receive any written comments on the ITP application and HCP on or before June 18, 2007.

ADDRESSES: If you wish to review the application and HCP, you may write the Field Supervisor at our Jacksonville Field Office, 6620 Southpoint Drive South, Suite 310, Jacksonville, FL 32216, or make an appointment to visit during normal business hours. If you wish to comment, you may mail or hand deliver comments to the Jacksonville Field Office, or you may e-mail comments to paula_sisson@fws.gov. For more information on reviewing documents and public comments and submitting comments, see SUPPLEMENTARY INFORMATION.

FOR FURTHER INFORMATION CONTACT: Paula Sisson, Fish and Wildlife Biologist, Jacksonville Field Office (see ADDRESSES); telephone: 904/232-2580, ext. 126.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Please reference permit number TE132192-0 for the Lake County School Board Project in all requests or comments. Please include your name and return address in your e-mail message. If you do not receive a confirmation from us that we have received your e-mail message, contact us directly at the telephone number listed under FOR FURTHER INFORMATION CONTACT.

Background

The sand skink is known to occur in Lake County, primarily within the Lake Wales Ridge, and much less frequently within the Mt. Dora Ridge. Although originally thought to inhabit xeric, scrub habitat exclusively, the sand skink is currently being identified in non-traditional areas with sub-marginal habitat, including pine plantation, abandoned citrus groves, and disturbed areas. Sand skinks require soil moisture for thermoregulation, egg incubation, and prey habitat. High activity periods, which have been associated with the breeding season for this species, range from mid-February to early May, with egg-hatching typically occurring from June through July. Due to the reduction in quality and acreage and the rapid development of xeric upland communities, the sand skink is reportedly declining throughout most of its range. However, biological information regarding the sand skink is limited, due to the cryptic nature of the species.

Applicant's Proposal

The applicant is requesting take of approximately 0.48 acres of occupied sand skink habitat incidental to the Project. The ±19.1 acre Project currently includes an elementary school site and accessory structures, play areas, and infrastructure encompassing ±16.0 acres. In order to mitigate for the loss of 0.48 acres of sand skink habitat, the Applicant proposes to restore and manage ±2.14 acres of occupied sand skink habitat to remain on-site, as well as a ±0.96 acre mitigation area (currently unoccupied by the species). Restoration will be achieved through a combination of tree removal (planted pine and citrus) and a planting effort of scrub oak species. Additional mitigation measures will include incorporation of a natural path with educational signage, to serve as an educational tool for the elementary school students. The conservation areas are expected to increase the overall functional value of the habitat given the existing conditions versus the proposed conditions of these conservation areas.

We have determined that the applicant's proposal, including the proposed mitigation and minimization measures, would have minor or negligible effects on the species covered in the HCP. Therefore, the ITP is a “low-effect” project and qualifies for categorical exclusions under the National Environmental Policy Act (NEPA), as provided by the Department of the Interior Manual (516 DM 2 Appendix 1 and 516 DM 6 Appendix 1). This preliminary information may be revised based on our review of public comments that we receive in response to this notice. A low-effect HCP is one involving (1) Minor or negligible effects on federally listed or candidate species and their habitats, and (2) minor or negligible effects on other environmental values or resources.

We will evaluate the HCP and comments submitted thereon to determine whether the application meets the requirements of section 10(a) of the Act (16 U.S.C. 1531 et seq.). If we determine that the application meets those requirements, we will issue the ITP for incidental take of the sand skink. We will also evaluate whether issuance of the section 10(a)(1)(B) ITP complies with section 7 of the Act by conducting an intra-Service section 7 consultation. We will use the results of this consultation, in combination with the above findings, in the final analysis to determine whether or not to issue the ITP.

Authority: We provide this notice under Section 10 of the Endangered Species Act and NEPA regulations (40 CFR 1506.6).

Dated: May 10, 2007.
David L. Hankla,
Field Supervisor, Jacksonville Field Office.

[FR Doc. E7-9482 Filed 5-16-07; 8:45 am]

BILLING CODE 4310-55-P